DEPARTMENT OF THE INTERIOR

Bureau of Land Management

[CO-200-1430-EU; COC-70516]

Notice of Realty Action: Proposed Competitive Sale of Public Land, Boulder County, CO

AGENCY: Bureau of Land Management, Interior.

ACTION: Notice of realty action.

SUMMARY: A single 6.54-acre parcel of Federal public land near Ward, in Boulder County, Colorado, has been examined and found suitable for sale using the competitive sale procedures of Title 43 Code of Federal Regulations, Sub Part 2711. The authority for the sale is Section 203 of the Federal Land Policy and Management Act of 1976 (FLPMA) (43 U.S.C. 1701 and 1713).

DATES: The parcel will be segregated on the date of publication of this notice in the Federal Register. Comments regarding the proposed sale must be received by the Bureau of Land Management (BLM) at the address listed below by October 15, 2007. BLM will accept sealed bids for the parcel from qualified bidders up to February 27, 2008, and accept oral bids at a public auction scheduled for February 29, 2008.

ADDRESSES: Written comments regarding the proposed sale may be sent to the BLM at the following address: Field Manager, Royal Gorge Field Office, Bureau of Land Management, 3170 East Main Street, Canon City, Colorado 81212.

The address for oral bidding registration and the location of the public auction is: Bureau of Land Management, Colorado State Office, 2850 Youngfield Street, Lakewood, Colorado 80215.

FOR FURTHER INFORMATION CONTACT: Information regarding the competitive sale instructions, procedures, documents, map, and materials to submit a bid can be obtained at the public reception area at the BLM Royal Gorge Field Office, or by contacting Debbie Bellew at (719) 269-8514 or dbellew@co.blm.gov.

SUPPLEMENTARY INFORMATION: The following described parcel of public land is proposed for sale:

Sixth Principal Meridian, Colorado

T. 1 N., R. 73 W.,

Section 12, Proposed Lot 67.

The area described contains 6.54 acres, in Boulder County.

The parcel is approximately 1 mile south of the town of Ward, Colorado.

The parcel described in this notice was identified for disposal in an approved land use plan in effect on July 25, 2000. Proceeds from this sale will be deposited into the Federal Land Disposal Account authorized under Section 206 of the Federal Land Transaction Facilitation Act, Public Law 106-248. The parcel is not required for Federal purposes and was identified for disposal in the BLM Northeast Colorado Resource Management Plan approved in September 1986, and therefore meets the qualifications for disposal from Federal ownership. The disposal (sale) of the parcel would serve the public interest for private economic development.

On August 30, 2007, the parcel will be segregated from appropriation under the public land laws, including the mining laws, except as to competitive sale as herein proposed. The segregative effect will terminate upon issuance of a patent, publication in the Federal Register of a termination of the segregation, or August 31, 2009 unless extended by the BLM State Director, Colorado, in accordance with 43 CFR 2711.1-2(d) prior to the termination date. The parcel will be offered for sale using both sealed and oral bid procedures on February 29, 2008 at an oral auction, for not less than the appraised fair market value (FMV). Federal law requires that bidders must be citizens of the United States, 18 years of age or older, or in the case of a corporation, be subject to the laws of any State of the United States. Proof of citizenship shall accompany the bid. The appraised FMV of the parcel will be determined approximately 30 days in advance of the auction date. In addition to the appraised FMV minimum bid and any bid addition, the successful bidder/purchaser shall reimburse the BLM for its costs of $7,411.00 incurred for surveying the boundaries of the parcel.

Sealed bids under 43 CFR 2711.3-1(c) must be received at the BLM Royal Gorge Field Office no later than 4:30 p.m., MST, February 27, 2008. The outside of bid envelopes must be clearly marked on the front lower left-hand corner with “SEALED BID” “BLM Land Sale CO, COC-70516” and the bid opening date of February 29, 2008.

Sealed bid opening will begin at 9 a.m., MST, February 29, 2008, and the highest acceptable bid will be determined. All oral bidders are required to register, which will begin at 8 a.m. and end at 9 a.m. MST, on February 29, 2008. Prospective oral bidders are encouraged to pre-register by mail or fax (719-269-8599) by completing the form in the sale packet available for this sale. The highest qualifying sealed bid will become the starting bid at the oral auction. If no sealed bids are received, oral bidding will begin at the FMV, as determined by the authorized officer and will be accepted in $100 increments only. If no oral bids are received, the highest acceptable sealed bid will be considered the purchaser. The apparent high bidder must submit a deposit of not less than 30 percent of the successful bid at the end of the auction along with $7,411.00 to cover the survey costs. The remainder of the full bid price must be paid within 180 calendar days from the date of the sale. Failure to pay the full price within the 180 days will disqualify the apparent high bidder and shall result in forfeiture of the entire 30 percent deposit to the BLM. The BLM cannot accept the full price at any time following the 180th day after the sale. Payments must be in the form of a certified check, postal money order, bank draft, or cashier's check made payable in U.S. dollars to the order of the U.S. Department of the Interior—BLM. Personal checks will not be accepted.

Following the auction, all monies submitted with sealed bids will be returned to the unsuccessful bidders.

Terms and Conditions of Sale

The following reservations, rights, and conditions will be included in the patent that may be issued for the above parcel of Federal land: A reservation to the United States for ditches and canals constructed by the authority of the United States, Act of August 30, 1890 (43 U.S.C. 945).

The parcel will be subject to valid existing rights and to the following: (1) A right-of-way for access purposes as granted to Iddo and Kathleen Pittman by COC-38793; (2) a right-of-way for telephone line purposes granted to Qwest by COC-49796; and (3) those rights for highway purposes as granted to the Colorado Department of Transportation by COC-051676. Conveyance of any mineral interests pursuant to Section 209 of the FLPMA will be analyzed during processing of the proposed sale. The purchaser/grantee, accepting the patent, agrees to indemnify, defend, and hold the United States harmless from any costs, damages, claims, causes of action, penalties, fines, liabilities, and judgment of any kind arising from the past, present, or future acts of omissions of the grantor, its employees, agents, contractor, or lessees, or a third party arising out of, or in connection with, grantor's use and/or occupancy of the deeded real property resulting in: Violations of Federal, State, and local laws and regulations that are now, or in the future, become applicable to the real property; (2) judgments, claims, or demands of any kind assessed against the United States; (3) costs, expenses, or damages of any kind incurred by the United States; (4) releases or threatened release of solid or hazardous waste(s) and/or hazardous substance(s) as defined by the Federal or State environmental laws, off, on, into, or under land, property, and other interest of the United States; (5) other activities by which solid or hazardous substances or wastes, as defined by Federal and State environmental laws are generated, released, restored, used, or otherwise disposed of on the deeded real property, and any cleanup response rendered remedial action, or other actions related in any manner to said solid or hazardous substances or wastes; or (6) natural resource damages as defined by Federal and State law. This covenant shall be construed as running with the deeded real property and may be enforced by the United States in a court of competent jurisdiction.

Pursuant to the requirements established by section 120(h) of the Comprehensive Environmental Response, Compensation and Liability Act (CERCLA), (42 U.S.C. 9620(h)), as amended by the Superfund Amendments and Reauthorization Act of 1988, (100 Stat. 1670), notice is hereby given that the above-described parcel has been examined and no evidence was found to indicate that any hazardous substances have been stored for one year or more, nor has any hazardous substances been disposed of or released on the subject property.

No warranty of any kind, expressed or implied, is given by the United States as to the title, or the physical condition or potential uses of the parcel of land proposed for sale. Under Boulder County Land Use Code, newly created parcels of less than 35 acres are not legal building lots for which building permits may be issued. The conveyance will not be on a contingency basis. It is the buyer's responsibility to be aware of: (1) All applicable Federal, State, or local government laws, regulation, or policies that may affect the subject parcel or its future uses, and (2) existing or prospective uses of nearby properties. When conveyed out of Federal ownership, the lands will be subject to any applicable laws, regulations, and policies of the applicable local government for proposed future uses. It will be the responsibility of the purchaser to be aware of those laws, regulations, and policies, and to seek any required local approvals for future uses. Buyers should also make themselves aware of any Federal or State law or regulation that may impact the future use of the property. If the parcel lacks access from a public road or highway it will be conveyed as such, and future access acquisition will be the responsibility of the buyer.

Public Comments

For a period until October 15, 2007, interested parties and the general public may submit in writing any comments concerning the parcel being considered for competitive sale, including notification of any encumbrances or other claims relating to the parcel, to the Royal Gorge Field Manager at the above address. In order to ensure consideration in the environmental analysis of the proposed sale, comments must be in writing and postmarked or delivered within 45 days of the initial date of publication of this notice. Comments, including names and street addresses of respondents, will be available for public review at the BLM Royal Gorge Field Office during regular business hours. Individual respondents may request confidentiality. Before including your address, phone number, e-mail address, or other personal identifying information in your comment, be advised that your entire comment—including your personal identifying information—may be made publicly available at any time. While you can ask us in your comment to withhold from public review your personal identifying information, we cannot guarantee that we will be able to do so. If you wish to have your name or address withheld from public disclosure under the Freedom of Information Act, you must state it prominently at the beginning of your comments. Any determination by the BLM to release or withhold the names and/or addresses of those who comment will be made on a case-by-case basis. Such requests will be honored to the extent allowed by law. BLM will make available for public review, in their entirety, all comments submitted by businesses or organizations, including comments by individuals in their capacity as an official or representative of an organization or business.

Any adverse comments will be reviewed by the BLM State Director, Colorado, who may sustain, vacate, or modify this realty action in whole or in part. In the absence of any adverse comments, this realty action will become the final determination of the Department of the Interior.

Roy L. Masinton,
Royal Gorge Field Manager.

[FR Doc. 07-4266 Filed 8-29-07; 8:45 am]

BILLING CODE 4310-JB-M